DEPARTMENT OF ENERGY

Federal Energy Regulatory Commission

[Docket No. ER07-521-000]

New York Independent System Operator, Inc.; Notice of Change in Technical Conference

August 15, 2007.

On August 7, 2007, the Commission issued a “Notice of Technical Conference” in the above-referenced proceeding. The date has been changed from Tuesday, September 11, 2007, and will now be held on Monday, September 10, 2007, at 10 a.m. (EDT), in conference room 3M-2A/B at the Federal Energy Regulatory Commission, 888 First Street, NE., Washington, DC 20426. A further notice will provide a detailed agenda.

For more information about this conference, please contact: Morris Margolis, Office of Energy Markets and Reliability, Federal Energy Regulatory Commission, 888 First Street, NE., Washington, DC 20426, (202) 502-8611, morris.margolis@ferc.gov.

Kimberly D. Bose
Secretary.

[FR Doc. E7-16502 Filed 8-21-07; 8:45 am]

BILLING CODE 6717-01-P